DEPARTMENT OF ENERGY

Federal Energy Regulatory Commission

[Docket No. RP03-286-003]

Williston Basin Interstate Pipeline Company; Notice of Compliance Filing

April 30, 2003.

Take notice that on April 25, 2003, Williston Basin Interstate Pipeline Company (Williston Basin) tendered for filing, as part of its FERC Gas Tariff, Second Revised Volume No. 1 and Original Volume No. 2, the compliance tariff sheets included in Appendix A to the filing, to become effective on September 1, 2003.

Williston Basin states that the filing is being made pursuant to the Commission's “Order Conditionally Accepting and Suspending Tariff Sheets Subject to Conditions,” issued March 26, 2003.

Williston Basin states that as directed by the Commission's March 26 Order, Williston Basin has removed the proposed flex adjustment provision, changed the effective date for implementation of the revised tariff provisions, revised fuel reimbursement percentages and electric power reimbursement rates and corrected the pagination of the respective tariff sheets.

Any person desiring to protest said filing should file a protest with the Federal Energy Regulatory Commission, 888 First Street,NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 7, 2003.

Magalie R. Salas,
Secretary.

[FR Doc. 03-11126 Filed 5-5-03; 8:45 am]

BILLING CODE 6717-01-P